DEPARTMENT OF JUSTICE

Notice of Lodging Proposed Consent Decree

In accordance with Departmental policy, 28 U.S.C. 50.7, notice is hereby given that a proposed Consent Decree in United States v. Varca Ventures, Inc. and Wildcat Mining Corporation, Civil Action No. 1:16-cv-02008-WYD, was lodged with the United States District Court for the District of Colorado on August 8, 2016.

The proposed Consent Decree concerns a complaint filed by the United States against Varca Ventures, Inc. and Wildcat Mining Corporation, pursuant to Sections 301, 309(b), and 404 of the Clean Water Act, 33 U.S.C. 1311, 1319(b), and 1344, to obtain injunctive relief from and impose civil penalties against the Defendants for violating the Clean Water Act by discharging pollutants without a permit into waters of the United States and for violation of a compliance order issued by the United States Environmental Protection Agency. The proposed Consent Decree resolves these allegations by requiring the Defendants to restore the impacted areas and to pay a civil penalty.

The Department of Justice will accept written comments relating to this proposed Consent Decree for thirty (30) days from the date of publication of this Notice. Please address comments to Daniel Pinkston, Senior Attorney, United States Department of Justice, Environment and Natural Resources Division, Environmental Defense Section, 999 18th Street, South Terrace—Suite 370, Denver, CO 80202, and refer to United States v. Varca Ventures, Inc. and Wildcat Mining Corporation, DJ #90-5-1-1-20319.

The proposed Consent Decree may be examined at the Clerk's Office, United States District Court for the District of Colorado, 901 19th Street, Denver, CO 80294. In addition, the proposed Consent Decree may be examined electronically at http://www.justice.gov/enrd/consent-decrees.

Cherie L. Rogers,
Assistant Section Chief, Environmental Defense Section, Environment and Natural Resources Division.

[FR Doc. 2016-19479 Filed 8-15-16; 8:45 am]

BILLING CODE 4410-15-P